NUCLEAR REGULATORY COMMISSION

Documents Containing Reporting or Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: 10 CFR part 52, Appendix D, AP1000 Design Certification, Final Rule.

3. The form number if applicable: Not applicable.

4. How often the collection is required: Semi-annually.

5. Who will be required or asked to report: Applicant for a combined license.

6. An estimate of the number of annual responses: 2 (1 response plus 1 recordkeeper).

7. The estimated number of annual respondents: 1.

8. An estimate of the total number of hours needed annually to complete the requirement or request: Approximately 39 additional burden hours (5 hours reporting plus 34 hours recordkeeping).

9. An indication of whether section 3507(d), Public Law 104-13 applies: It is applicable.

10. Abstract: The NRC is proposing to amend its regulations to certify the AP1000 standard plant design under subpart B of 10 CFR part 52. This action is necessary so that applicants or licensees intending to construct and operate an AP1000 design may do so by referencing the AP1000 design certification rule (DCR). This proposed DCR, as set out in Appendix D, is nearly identical to the AP600 DCR in Appendix C of the 10 CFR part 52. The information collection requirements for part 52 were based largely on the requirements for licensing nuclear facilities under 10 CFR part 50. The applicant for certification of the AP1000 design is Westinghouse Electric Company LLC.

A copy of the supporting statement may be viewed free of charge at the NRC Public Document Room, One White Flint North, 11555 Rockville Pike, Room O-1 F21, Rockville, MD 20852. OMB clearance packages are available at the NRC worldwide Web site: http://www.nrc.gov/public-involve/doc-comment/omb/index.html. The document will be available on the NRC home page site for 60 days after the signature date of this notice.

Comments and questions should be directed to the OMB reviewer by February 21, 2006.

John A. Asalone, Office of Information and Regulatory Affairs (3150-0151), NEOB-10202, Office of Management and Budget, Washington DC 20503.

Comments can also be e-mailed to John_A._Asalone@omb.eop.gov or submitted by telephone at (202) 395-4650.

The NRC Clearance Officer is Brenda Jo. Shelton, 301-415-7233.

Dated at Rockville, Maryland, this 12th day of December 2005.
For the Nuclear Regulatory Commission.
Brenda Jo. Shelton,
NRC Clearance Office, Office of Information Services.

[FR Doc. E5-7517 Filed 12-19-05; 8:45 am]

BILLING CODE 7590-01-P